ENVIRONMENTAL PROTECTION AGENCY

[EPA-HQ-OEJECR-2023-0326; FRL 10605-01-OA]

Release of Achieving Health and Environmental Protection Through EPA's Meaningful Involvement Policy

AGENCY: Environmental Protection Agency (EPA).

ACTION: Draft policy; notice of availability.

SUMMARY: The Environmental Protection Agency (EPA) is announcing the availability of and soliciting comment on a draft policy that updates the EPA's 2003 Public Involvement Policy. The revised draft policy promotes an EPA-wide approach to meaningful involvement that can be tailored for program and regional needs and outlines practices that EPA staff can use as they design and provide opportunities for meaningful involvement.

DATES: Comments must be received on or before January 16, 2024.

ADDRESSES: You may send comments, identified by Docket ID No. EPA-HQ-OEJECR-2023-0326, by any of the following methods:

• Federal eRulemaking Portal: https://www.regulations.gov. Follow the online instructions for submitting comments.

• Agency Website: https://www.epa.gov/environmentaljustice/epas-meaningful-involvement-policy. Follow the online instructions for submitting comments.

• Email: MeaningfulInvolvementPolicy@epa.gov.

• Mail: U.S. Environmental Protection Agency, EPA Docket Center, Office of Environmental Justice and External Civil Rights Docket, Mail Code 28221T, 1200 Pennsylvania Avenue NW, Washington, DC 20460.

Instructions: All submissions received must include the Docket ID No. for this draft policy. Comments received may be posted without change to https://www.regulations.gov/, including any personal information provided.

FOR FURTHER INFORMATION CONTACT: Stacey Lobatos, Office of Environmental Justice and External Civil Rights (Mail Code 2201A), Environmental Protection Agency, William Jefferson Clinton Building, 1200 Pennsylvania Avenue NW, Washington, DC 20460; phone number: 202-564-8579, email address: MeaningfulInvolvementPolicy@epa.gov.

SUPPLEMENTARY INFORMATION:

I. General Information

A. How can I get copies of the Draft Policy document and other related information?

You may access this document electronically at https://www.epa.gov/environmentaljustice/epas-meaningful-involvement-policy or at https://www.federalregister.gov. EPA established an official public docket under Docket ID No. EPA-HQ-OEJECR-2023-0326 which is accessible electronically at https://www.regulations.gov that will also contain copies of this Federal Register notice. The public docket does not include CBI or other information whose disclosure is restricted by statute.

B. What should I consider as I prepare my comments for the EPA?

1. Tips for preparing your comments. When preparing and submitting your comments, see Tips for Effective Comments at https://www.epa.gov/dockets. Please note that once submitted, comments cannot be edited or removed from the docket. The EPA may publish any comment received to its public docket. Please also consider the following questions while drafting comments:

• How can the EPA's Meaningful Involvement Approach support meaningful involvement without putting an extra burden on the public, and communities with environmental justice concerns specifically?

• How could the adapted Public Participation Spectrum be enhanced?

• Are there other examples of meaningful public involvement that the EPA should consider in this policy?

2. Submitting CBI. Do not submit CBI information to the EPA through regulations.gov or email. Clearly mark the part or all of the information that you claim to be CBI. In addition to one complete version of the comment that includes information claimed as CBI, a copy of the comment that does not contain the information claimed as CBI must be submitted for inclusion in the public docket. Information so marked will not be disclosed except in accordance with procedures set forth in 40 CFR part 2.

Michael S. Regan,
Administrator.

[FR Doc. 2023-25273 Filed 11-15-23; 8:45 am]

BILLING CODE 6560-50-P